DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Dubuque County, Iowa, and Incorporated Areas
Docket No.: FEMA-B-1093
Mississippi River | Approximately 11.1 miles downstream of the confluence with Catfish Creek | +606 | City of Dubuque, Unincorporated Areas of Dubuque County.
| Approximately 17.5 miles upstream of Lock and Dam 11 | +616
* National Geodetic Vertical Datum.
+ North American Vertical Datum.
# Depth in feet above ground.
‸ Mean Sea Level, rounded to the nearest 0.1 meter.
ADDRESSES
City of Dubuque
Maps are available for inspection at City Hall, 50 West 13th Street, Dubuque, IA 52001.
Unincorporated Areas of Dubuque County
Maps are available for inspection at 720 Central Avenue, Dubuque, IA 52001.
Gratiot County, Michigan (All Jurisdictions)
Docket No.: FEMA-B-1104
Pine River Lower Reach | At Chessman Road | +724 | Township of Pine River.
| Approximately 0.65 mile upstream of Chessman Road | +724
Pine River Upper Reach | Approximately 0.77 mile upstream of State Street Dam | +735 | Township of Arcada.
| Approximately 0.96 mile upstream of State Street Dam | +735
* National Geodetic Vertical Datum.
+ North American Vertical Datum.
# Depth in feet above ground.
‸ Mean Sea Level, rounded to the nearest 0.1 meter.
ADDRESSES
Township of Arcada
Maps are available for inspection at the Arcada Township Hall, 3200 West Tyler Road, Alma, MI 48801.
Township of Pine River
Maps are available for inspection at the Pine River Township Hall, 1495 West Monroe Road, St. Louis, MI 48880.
Franklin County, Missouri, and Incorporated Areas
Docket No.: FEMA-B-1108
Birch Creek | Approximately 0.4 mile downstream of Denmark Road | +499 | City of Union, Unincorporated Areas of Franklin County.
| Approximately 440 feet downstream of Prairie Dell Road | +543
Bourbeuse River Tributary | Approximately 0.6 mile upstream of the confluence with Bourbeuse River | +500 | City of Union, Unincorporated Areas of Franklin County.
| Just downstream of Prairie Dell Road | +550
Busch Creek | At the confluence with Dubois Creek | +480 | City of Washington, Unincorporated Areas of Franklin County.
| Approximately 460 feet upstream of Schroeder Lane | +582
Dubois Creek | Approximately 1,688 feet downstream of the confluence with Busch Creek | +491 | City of Washington, Unincorporated Areas of Franklin County.
| Just downstream of State Highway 100 | +491
Fiddle Creek | Approximately 165 feet downstream of Labadie Bottom Road | +483 | Unincorporated Areas of Franklin County.
| Approximately 0.8 mile upstream of County Highway T | +483
Labadie Creek | At the confluence with the Missouri River | +485 | Unincorporated Areas of Franklin County.
| Approximately 0.5 mile downstream of County Highway T | +486
Little Tavern Creek | Approximately 1.0 mile downstream of County Highway T | +480 | Unincorporated Areas of Franklin County.
| Approximately 0.5 mile downstream of County Highway T | +480
Missouri River | Approximately 3.3 miles downstream of the confluence with Fiddle Creek | +476 | City of Berger, City of New Haven, City of Washington, Unincorporated Areas of Franklin County.
| Approximately 0.6 mile downstream of the confluence with Little Berger Creek | +516
Saint Johns Creek | Approximately 1.2 miles downstream of West Link Drive | +495 | City of Washington, Unincorporated Areas of Franklin County.
| Approximately 1,475 feet downstream of State Highway 100 | +495
South Branch Busch Creek | At the confluence with Busch Creek | +491 | City of Washington, Unincorporated Areas of Franklin County.
| Approximately 0.8 mile upstream of State Highway 100 | +500
Southwest Branch Busch Creek | At the confluence with Busch Creek | +493 | City of Washington, Unincorporated Areas of Franklin County.
| Approximately 0.5 mile upstream of State Highway 47 | +514
Unnamed Tributary to Busch Creek | At the confluence with Busch Creek | +537 | City of Washington, Unincorporated Areas of Franklin County.
| Approximately 1,520 feet upstream of State Highway 100 | +552
* National Geodetic Vertical Datum.
+ North American Vertical Datum.
# Depth in feet above ground.
‸ Mean Sea Level, rounded to the nearest 0.1 meter.
ADDRESSES
City of Berger
Maps are available for inspection at 405 Rosalie Avenue, Berger, MO 63014.
City of New Haven
Maps are available for inspection at 101 Front Street, New Haven, MO 63068.
City of Union
Maps are available for inspection at 500 East Locust Street, Union, MO 63084.
City of Washington
Maps are available for inspection at 405 Jefferson Street, Washington, MO 63090.
Unincorporated Areas of Franklin County
Maps are available for inspection at 8 North Church Street, Suite B, Union, MO 63084.
Park County, Montana, and Incorporated Areas
Docket No.: FEMA-B-1140
Yellowstone River | Approximately 3.26 miles downstream of Northern Pacific Railroad | +4357 | City of Livingston, Unincorporated Areas of Park County.
| Approximately 4.14 miles downstream of Tom Miner Creek Road | +4953
Yellowstone River East Branch | Approximately 0.76 mile downstream of I-90 | +4493 | City of Livingston, Unincorporated Areas of Park County.
| Approximately 0.94 mile upstream of I-90 | +4519
* National Geodetic Vertical Datum.
+ North American Vertical Datum.
# Depth in feet above ground.
‸ Mean Sea Level, rounded to the nearest 0.1 meter.
ADDRESSES
City of Livingston
Maps are available for inspection at 414 East Callender Street, Livingston, MT 59047.
Unincorporated Areas of Park County
Maps are available for inspection at 414 East Callender Street, Livingston, MT 59047.
Holmes County, Ohio, and Incorporated Areas
Docket No.: FEMA-B-1128
Killbuck Creek | Just downstream of U.S. Route 62 | +807 | Unincorporated Areas of Holmes County, Village of Killbuck.
| Just upstream of Township Road 91 | +811
* National Geodetic Vertical Datum.
+ North American Vertical Datum.
# Depth in feet above ground.
‸ Mean Sea Level, rounded to the nearest 0.1 meter.
ADDRESSES
Unincorporated Areas of Holmes County
Maps are available for inspection at 2 Court Street, Millersburg, OH 44654.
Village of Killbuck
Maps are available for inspection at 451 South Railroad Street, Killbuck, OH 44637.
Marion County, South Carolina, and Incorporated Areas
Docket No.: FEMA-B-1144
Little Pee Dee River | Just upstream of Drama Court extended | +28 | Unincorporated Areas of Marion County.
| Just downstream of U.S. Route 76 | +51
Sellers Branch | Approximately 250 feet downstream of Church Street | +72 | Town of Sellers, Unincorporated Areas of Marion County.
| Approximately 1,500 feet upstream of Main Street | +85
White Oak Creek Tributary 1.1 | At the confluence with White Oak Creek Tributary 1 | +84 | City of Mullins.
| Approximately 50 feet downstream of Lowman Street | +95
* National Geodetic Vertical Datum.
+ North American Vertical Datum.
# Depth in feet above ground.
‸ Mean Sea Level, rounded to the nearest 0.1 meter.
ADDRESSES
City of Mullins
Maps are available for inspection at 151 East Front Street, Mullins, SC 29574.
Town of Sellers
Maps are available for inspection at 2552 U.S. Route 301, Sellers, SC 29592.
Unincorporated Areas of Marion County
Maps are available for inspection at 1305 North Main Street, Marion, SC 29571.

(Catalog of Federal Domestic Assistance No. 97.022, “Flood Insurance.”)

Dated: August 19, 2011.
Sandra K. Knight,
Deputy Federal Insurance and Mitigation Administrator, Mitigation, Department of Homeland Security, Federal Emergency Management Agency.

[FR Doc. 2011-22252 Filed 8-30-11; 8:45 am]

BILLING CODE 9110-12-P